DEPARTMENT OF AGRICULTURE

Rural Utilities Service

Information Collection Activity; Comment Request

AGENCY: Rural Utilities Service, USDA.

ACTION: Notice and request for comments.

SUMMARY: In accordance with the Paperwork Reduction Act of 1995 (44 U.S.C. chapter 35, as amended), the Rural Utilities Service (RUS) invites comments on this information collection for which RUS intends to request approval from the Office of Management and Budget (OMB).

DATES: Comments on this notice must be received by February 28, 2003.

FOR FURTHER INFORMATION CONTACT: F. Lamont Heppe, Jr., Program Development & Regulatory Analysis, Rural Utilities Service, USDA, 1400 Independence Ave., SW., STOP 1522, Room 4034 South Building, Washington, DC 20250-1522. Telephone: (202) 720-0736. FAX: (202) 720-4120.

SUPPLEMENTARY INFORMATION: Title: 7 CFR Part 1755, Telecommunications Standards and Specifications.

OMB Control Number: 0572-New.

Type of Request: New collection.

Abstract: Manufactures wishing to sell their products to RUS borrowers, request RUS consideration for acceptance of their products and submit data demonstrating their products' compliance with RUS specifications. Compliance with RUS specifications and standards is demonstrated to a large extent via presentation of laboratory tests results and other informational data upon which the determination of acceptability can be made. RUS evaluates this data to determine that the quality of the products is acceptable and that their use will not jeopardize loan security. In the telecommunications program, because of the complex and highly technical nature of equipment, services and system architectures, RUS also requires a manufacturer to demonstrate successful product use in a working telecommunications system.

RUS Bulletin 345-2, establishes Agency policy that materials and equipment purchased by RUS telecommunications borrowers or accepted as contractor-furnished material, must conform to RUS standards and specifications where they have been established and, if included in RUS IP 344-2, “List of Materials Acceptable for Use on Telecommunications Systems of RUS Borrowers” (List of Materials), must be selected from that list or must have received technical acceptance from RUS.

Estimate of Burden: Public reporting burden for this collection of information is estimated to average 20 hour per response.

Respondents: Business or other for-profit and non-profit institutions.

Estimated Number of Respondents: 49.

Estimated Number of Responses per Respondent: 2.

Estimate Total Annual Burden on Respondents: 2,580 hours.

Copies of this information collection can be obtained from Dawn Wolfgang, Program Development and Regulatory Analysis, Rural Utilities Service at (202) 720-0812. Comments are invited on (a) whether the collection of information is necessary for the proper performance of the functions of the agency, including whether the information will have practical utility; (b) the accuracy of the agency's estimate of burden including the validity of the methodology and assumption used; (c) ways to enhance the quality, utility and clarity of the information to be collected; and (d) ways to minimize the burden of the collection of information on those who are to respond, including through the use of appropriate automated, electronic, mechanical, or other technological collection techniques on other forms of information technology.

All responses to this notice will be summarized and included in the request for OMB approval. All comments will also become a matter of public record.

Dated: December 23, 2002.
Curtis M. Anderson,
Deputy Administrator as Acting Administrator, Rural Utilities Service.

[FR Doc. 02-32825 Filed 12-27-02; 8:45 am]

BILLING CODE 3410-15-P